DEPARTMENT OF COMMERCE

International Trade Administration

[A-570-967]

Aluminum Extrusions From the People's Republic of China: Preliminary Results of Antidumping Duty Administrative Review and Rescission of Review in Part; 2016-2017

AGENCY: Enforcement and Compliance, International Trade Administration, Department of Commerce.

SUMMARY: The Department of Commerce (Commerce) is conducting an administrative review of the antidumping duty (AD) order on aluminum extrusions from the People's Republic of China (China). The period of review (POR) is May 1, 2016, through April 30, 2017. Mandatory respondents were selected, but all requests for administrative review for the mandatory respondents were subsequently timely withdrawn. Commerce preliminarily determines that none of the 29 companies for which an administrative review was requested, and not withdrawn, demonstrated eligibility for a separate rate, and are, therefore, all part of the China-wide entity. For the 191 companies for which all requests for administrative review have been timely withdrawn, we rescind this administrative review. Interested parties are invited to comment on these preliminary results.

DATES: Applicable February 8, 2018.

FOR FURTHER INFORMATION CONTACT: Deborah Scott or Mark Flessner, AD/CVD Operations, Office VI, Enforcement and Compliance, International Trade Administration, Department of Commerce, 1401 Constitution Avenue NW, Washington, DC 20230; telephone: (202) 482-2657 or (202) 482-6312, respectively.

SUPPLEMENTARY INFORMATION:

Background

On July 6, 2017, Commerce published the notice of initiation of the administrative review of the AD order on aluminum extrusions from China ¹ for the period May 1, 2016, through April 30, 2017, covering 220 companies.² All requests for administrative review were timely withdrawn with regard to 191 companies (listed in Appendix II to this notice), leaving 29 companies subject to administrative review.³ For a complete description of the events that followed the initiation of this administrative review, see the Preliminary Decision Memorandum.⁴

¹ See Aluminum Extrusions from the People's Republic of China: Antidumping Duty Order, 76 FR 30650 (May 26, 2011) (the Order).

² See Initiation of Antidumping and Countervailing Duty Administrative Reviews, 82 FR 31292, 31294 (July 6, 2017) (Initiation Notice); see also Petitioner Letter re: Aluminum Extrusions from the People's Republic of China: Request for Administrative Review, dated May 31, 2017; see also Regal Letter re: Aluminum Extrusions from the People's Republic of China: Request for Administrative Review, dated May 31, 2017.

³ See Petitioner Letter re: Aluminum Extrusions from the People's Republic of China: Withdrawal of Request for Administrative Review, dated October 4, 2017. Although the petitioner withdrew its requests for an administrative review of Guangdong Xin Wei Aluminum Products Co., Ltd., and Xin Wei Aluminum Company Limited, because an administrative review of these companies was also requested by Regal, a request for an administrative review remains in place for 29 companies.

⁴ See Memorandum, “Decision Memorandum for Preliminary Results of Antidumping Duty Administrative Review: Aluminum Extrusions from the People's Republic of China; 2016-2017,” dated concurrently with, and hereby adopted by, this notice (Preliminary Decision Memorandum).

The Preliminary Decision Memorandum is a public document and is on file electronically via Enforcement and Compliance's AD and Countervailing Duty Centralized Electronic Service System (ACCESS). ACCESS is available to registered users at https://access.trade.gov, and to all parties in the Central Records Unit, Room B8024 of the main Department of Commerce building. In addition, a complete version of the Preliminary Decision Memorandum can be accessed directly on the internet at http://enforcement.trade.gov/frn/. The signed and the electronic versions of the Preliminary Decision Memorandum are identical in content. A list of topics included in the Preliminary Decision Memorandum is included as Appendix I to this notice.

Commerce has exercised its discretion to toll deadlines for the duration of the closure of the Federal Government from January 20 through 22, 2018. If the new deadline falls on a non-business day, in accordance with Commerce's practice, the deadline will become the next business day. The revised deadline for the preliminary results of this review is now February 5, 2018.⁵

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁶

⁶ See Preliminary Decision Memorandum for a complete description of the scope of the Order.

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this Order is dispositive.⁷

⁷ See the Order.

Methodology

Commerce is conducting this review in accordance with section 751(a)(1)(B) of the Tariff Act of 1930, as amended (the Act). For a full description of the methodology underlying our preliminary results of review, see the Preliminary Decision Memorandum.

Rescission of Administrative Review, in Part

Pursuant to 19 CFR 351.213(d)(1), Commerce will rescind an administrative review, in whole or in part, if the party or parties that requested a review withdraws the request within 90 days of the publication date of the notice of initiation of the requested review. As noted above, petitioner timely withdrew its request for an administrative review for certain companies. Therefore, in accordance with 19 CFR 351.213(d)(1), we are rescinding this administrative review with respect to 191 of the 220 companies named in the Initiation Notice.⁸ See Appendix II for a list of these companies.⁹

⁸ See Initiation Notice, 82 FR at 31294-31297.

⁹ See Preliminary Decision Memorandum for further details.

Separate Rates

In the Initiation Notice, we informed parties of the opportunity to request a separate rate.¹⁰ In proceedings involving non-market economy (NME) countries, Commerce begins with a rebuttable presumption that all companies within the NME country are subject to government control and, thus, should be assigned a single weighted-average dumping margin. It is Commerce's policy to assign all exporters of merchandise subject to an administrative review involving an NME country this single rate unless an exporter can demonstrate that it is sufficiently independent so as to be entitled to a separate rate. Companies that wanted to qualify for separate rate status in this administrative review were required to timely file, as appropriate, a separate rate application (SRA) or a separate rate certification (SRC) to demonstrate their eligibility for a separate rate. SRAs and SRCs were due to Commerce within 30 calendar days of the publication of the Initiation Notice.¹¹

¹⁰ See Initiation Notice, 82 FR at 31293.

¹¹ Id.

Of the companies for which an administrative review was requested, and not withdrawn, none submitted an SRA, SRC, or certification of no shipments. Therefore, no company for which a request for administrative review remains in place has demonstrated that it is entitled to a separate rate. We, therefore, preliminarily determine that the following companies are not eligible for a separate rate in this administrative review: (1) Activa International Inc.; (2) Atlas Integrated Manufacturing Ltd.; (3) Belton (Asia) Development Ltd.; (4) Belton (Asia) Development Limited; (5) Changzhou Tenglong Auto Parts Co., Ltd.; (6) Changzhou Tenglong Auto Accessories Manufacturing Co. Ltd.; (7) Changzhou Tenglong Auto Parts Co Ltd; (8) China Square; (9) China Square Industrial Co.; (10) China Square Industrial Ltd; (11) Daya Hardware Co Ltd; (12) ETLA Technology (Wuxi) Co. Ltd; (13) Global Hi-Tek Precision Co. Ltd; (14) Guangdong Whirlpool Electrical Appliances Co., Ltd.; (15) Guangdong Xin Wei Aluminum Products Co., Ltd.; (16) Guangdong Zhongya Aluminium Company Limited; (17) Henan New Kelong Electrical Appliances Co., Ltd.; (18) Liaoning Zhongwang Group Co., Ltd.; (19) Liaoyang Zhongwang Aluminum Profile Co. Ltd.; (20) Midea International Training Co., Ltd.; (21) Midea International Trading Co., Ltd.; (22) Shenyang Yuanda Aluminum Industry Engineering Co. Ltd.; (23) Sincere Profit Limited; (24) Summit Heat Sinks Metal Co, Ltd; (25) USA Worldwide Door Components (PINGHU) Co., Ltd.; (26) Whirlpool Canada L.P.; (27) Whirlpool Microwave Products Development Ltd.; (28) Xin Wei Aluminum Co. Ltd.; and (29) Xin Wei Aluminum Company Limited.¹²

¹² See Preliminary Decision Memorandum at 9-11.

China-Wide Entity

We preliminarily find that the 29 companies listed above are part of the China-wide entity in this administrative review because they failed to submit an SRA, SRC, or certification of no shipments.

Commerce's policy regarding conditional review of the China-wide entity applies to this administrative review.¹³ Under this policy, the China-wide entity will not be under review unless a party specifically requests, or Commerce self-initiates, a review of the entity. Because no party requested a review of the China-wide entity in the instant review, the entity is not under review, and the entity's current rate, i.e., 86.01 percent,¹⁴ is not subject to change.

¹³ See Antidumping Proceedings: Announcement of Change in Department Practice for Respondent Selection in Antidumping Duty Proceedings and Conditional Review of the Nonmarket Economy Entity in NME Antidumping Duty Proceedings, 78 FR 65963, 65970 (November 4, 2013).

¹⁴ See Aluminum Extrusions from the People's Republic of China: Final Results of Antidumping Duty Administrative Review; 2015-2016, 82 FR 52265, 52267 (November 13, 2017).

Adjustments for Countervailable Subsidies

Because no company established eligibility for an adjustment under section 777A(f) of the Act for countervailable domestic subsidies, for these preliminary results, Commerce did not make an adjustment pursuant to section 777A(f) of the Act for countervailable domestic subsidies for separate-rate recipients. Furthermore, because the China-wide entity is not under review, we made no adjustment for countervailable export subsidies for the China-wide entity pursuant to section 772(c)(1)(C) of the Act.

Disclosure and Public Comment

Normally, Commerce discloses to interested parties the calculations performed in connection with the preliminary results within five days of the public announcement or, if there is no public announcement, within five days of the date of publication of this notice in accordance with 19 CFR 351.224(b). However, because Commerce did not calculate weighted-average dumping margins for any companies in this review, nor for the China-wide entity, there is nothing further to disclose. This meets our regulatory obligation.

Interested parties may submit case briefs no later than 30 days after the date of publication of this notice.¹⁵ Rebuttal briefs, limited to issues raised in the case briefs, may be filed no later than five days after the case briefs are filed.¹⁶ Parties who submit case or rebuttal briefs in this review are requested to submit with each argument (a) a statement of the issue, (b) a brief summary of the argument, and (c) a table of authorities.¹⁷

¹⁵ See 19 CFR 351.309(c)(1)(ii).

¹⁶ See 19 CFR 351.309(d).

¹⁷ See 19 CFR 351.309(c)(2) and (d)(2).

Any interested party may request a hearing within 30 days of publication of this notice.¹⁸ Hearing requests should contain the following information: (1) The party's name, address, and telephone number; (2) the number of participants; and (3) a list of the issues to be discussed. Oral presentations at the hearing will be limited to issues raised in the case and rebuttal briefs. If a request for a hearing is made, parties will be notified of the time and date for the hearing to be held at the U.S. Department of Commerce, 1401 Constitution Avenue NW, Washington, DC 20230.¹⁹

¹⁸ See 19 CFR 351.310(c).

¹⁹ See 19 CFR 351.310(d).

All submissions, with limited exceptions, must be filed electronically using ACCESS.²⁰ An electronically filed document must be received successfully in its entirety by Commerce's electronic records system, ACCESS, by 5 p.m. Eastern Time (ET) on the due date. Documents excepted from the electronic submission requirements must be filed manually (i.e., in paper form) with the APO/Dockets Unit in Room 18022 and stamped with the date and time of receipt by 5 p.m. ET on the due date.²¹

²⁰ See generally 19 CFR 351.303.

²¹ See Antidumping and Countervailing Duty Proceedings: Electronic Filing Procedures; Administrative Protective Order Procedures, 76 FR 39263 (July 6, 2011).

Unless otherwise extended, Commerce intends to issue the final results of this administrative review, which will include the results of our analysis of all issues raised in any briefs received, within 120 days of publication of these preliminary results in the Federal Register, pursuant to section 751(a)(3)(A) of the Act.

Assessment Rates

Upon issuance of the final results of this review, Commerce will determine, and CBP shall assess, AD duties on all appropriate entries covered by this review.²² Commerce intends to issue assessment instructions to CBP 15 days after publication of the final results of this review.

²² See 19 CFR 351.212(b)(1).

We intend to instruct CBP to liquidate entries containing subject merchandise exported by the China-wide entity at the China-wide rate. Additionally, if Commerce determines that an exporter under review had no shipments of the subject merchandise, any suspended entries that entered under that exporter's case number will be liquidated at the China-wide rate.²³

²³ See Non-Market Economy Antidumping Proceedings: Assessment of Antidumping Duties, 76 FR 65694 (October 24, 2011).

For the companies for which this review is rescinded, AD duties shall be assessed at rates equal to the cash deposit of estimated AD duties required at the time of entry, or withdrawal from warehouse, for consumption, in accordance with 19 CFR 351.212(c)(1)(i). Commerce intends to issue assessment instructions to CBP for those companies 15 days after publication of this notice.

Cash Deposit Requirements

The following cash deposit requirements for estimated AD duties, when imposed, will apply to all shipments of subject merchandise from China entered, or withdrawn from warehouse, for consumption on or after the publication of the final results of this administrative review, as provided by section 751(a)(2)(C) of the Act: (1) If the companies preliminarily determined to be eligible for a separate rate receive a separate rate in the final results of this administrative review, their cash deposit rate will be equal to the weighted-average dumping margin established in the final results of this review, as adjusted for domestic and export subsidies (except, if that rate is de minimis, then the cash deposit rate will be zero); (2) for any previously investigated or reviewed Chinese and non-Chinese exporters that are not under review in this segment of the proceeding but that received a separate rate in the most recently completed segment of this proceeding, the cash deposit rate will continue to be the exporter-specific rate published for the most recently completed segment of this proceeding; (3) for all Chinese exporters of subject merchandise that have not been found to be entitled to a separate rate, the cash deposit rate will be that for the China-wide entity; (4) for the China-wide entity, the cash deposit rate will be 86.01 percent; and (5) for all non-Chinese exporters of subject merchandise which have not received their own rate, the cash deposit rate will be the rate applicable to the Chinese exporter that supplied that non-Chinese exporter.

These cash deposit requirements, when imposed, shall remain in effect until further notice.

Notification to Importers

This notice also serves as a preliminary reminder to importers of their responsibility under 19 CFR 351.402(f)(2) to file a certificate regarding the reimbursement of AD duties prior to liquidation of the relevant entries during this review period. Failure to comply with this requirement could result in Commerce's presumption that reimbursement of AD duties occurred and the subsequent assessment of double AD duties.

Notification to Interested Parties

We are issuing and publishing notice of these preliminary results in accordance with sections 751(a)(1) and 777(i)(1) of the Act and 19 CFR 351.221(b)(4).

Dated: January 26, 2018.
Prentiss Lee Smith,
Deputy Assistant Secretary for Policy and Negotiations.

Appendix I—List of Topics Discussed in the Preliminary Decision Memorandum

I. Summary

II. Background

III. Scope of the Order

IV. Respondent Selection

V. Rescission of Administrative Review, in Part

VI. NME Country

VII. Separate Rates

VIII. The China-Wide Entity

IX. Adjustments for Countervailable Subsidies

X. Conclusion

Appendix II— Companies for Which This Administrative Review Is Being Rescinded

1. Acro Import and Export Co.

2. Activa Leisure Inc.

3. Allied Maker Limited

4. Alnan Aluminium Ltd.

5. Alnan Aluminum Co., Ltd.

6. Aluminicaste Fundicion de Mexico

7. AMC Limited

8. AMC Ltd.

9. Anji Chang Hong Chain Manufacturing

10. Aoda Aluminium (Hong Kong) Co., Limited

11. Birchwoods (Lin'an) Leisure Products Co., Ltd.

12. Bolnar Hong Kong Ltd.

13. Bracalente Metal Products (Suzhou) Co., Ltd.

14. Changshu Changshen Aluminum Products Co., Ltd.

15. Changshu Changsheng Aluminium Products Co., Ltd.

16. Changzhou Changzhen Evaporator Co., Ltd.

17. Changzhou Changzheng Evaporator Co., Ltd.

18. China Zhongwang Holdings, Ltd.

19. Chiping One Stop Industrial & Trade Co., Ltd.

20. Classic & Contemporary Inc.

21. Clear Sky Inc.

22. Cosco (J.M.) Aluminium Co., Ltd.

23. Dalian Huacheng Aquatic Products

24. Dalian Liwang Trade Co., Ltd.

25. Danfoss Micro Channel Heat Exchanger (Jia Xing) Co., Ltd.

26. Dongguan Aoda Aluminum Co., Ltd.

27. Dongguan Dazhan Metal Co., Ltd.

28. Dongguan Golden Tiger Hardware Industrial Co., Ltd.

29. Dragonluxe Limited

30. Dynabright Int'l Group (HK) Limited

31. Dynamic Technologies China Ltd.

32. Ever Extend Ent. Ltd.

33. Fenghua Metal Product Factory

34. First Union Property Limited

35. FookShing Metal & Plastic Co. Ltd.

36. Foreign Trade Co. of Suzhou New & High-Tech Industrial Development Zone

37. Foshan City Nanhai Hongjia Aluminum Alloy Co., Ltd.

38. Foshan Golden Source Aluminum Products Co., Ltd.

39. Foshan Guangcheng Aluminium Co., Ltd

40. Foshan Jinlan Aluminum Co. Ltd.

41. Foshan JinLan Aluminum Co., Ltd.

42. Foshan JMA Aluminum Company Limited

43. Foshan Sanshui Fenglu Aluminium Co., Ltd.

44. Foshan Shunde Aoneng Electrical Appliances Co., Ltd

45. Foshan Yong Li Jian Aluminum Co., Ltd.

46. Fujian Sanchuan Aluminum Co., Ltd.

47. Fuzhou Sunmodo New Energy Equipment

48. Genimex Shanghai, Ltd.

49. Global PMX Dongguan Co., Ltd.

50. Global Point Technology (Far East) Limited

51. Gold Mountain International Development, Ltd.

52. Golden Dragon Precise Copper Tube Group, Inc.

53. Gran Cabrio Capital Pte. Ltd.

54. Gree Electric Appliances

55. GT88 Capital Pte. Ltd.

56. Guang Ya Aluminium Industries Co., Ltd.

57. Guang Ya Aluminum Industries Company Ltd

58. Guang Ya Aluminium Industries (Hong Kong) Ltd.

59. Guangcheng Aluminum Co., Ltd

60. Guangdong Hao Mei Aluminium Co., Ltd.

61. Guangdong Jianmei Aluminum Profile Company Limited

62. Guangdong JMA Aluminum Profile Factory (Group) Co., Ltd.

63. Guangdong Midea

64. Guangdong Nanhai Foodstuffs Imp. & Exp. Co., Ltd.

65. Guangdong Weiye Aluminum Factory Co., Ltd.

66. Guangdong Xingfa Aluminium Co., Ltd.

67. Guangdong Yonglijian Aluminum Co., Ltd.

68. Guangzhou Jangho Curtain Wall System Engineering Co., Ltd.

69. Guangzhou Mingcan Die-Casting Hardware Products Co., Ltd.

70. Hangzhou Xingyi Metal Products Co., Ltd.

71. Hanwood Enterprises Limited

72. Hanyung Alcoba Co., Ltd.

73. Hanyung Alcobis Co., Ltd.

74. Hanyung Metal (Suzhou) Co., Ltd.

75. Hao Mei Aluminum Co., Ltd.

76. Hao Mei Aluminum International Co., Ltd.

77. Hebei Xusen Wire Mesh Products Co., Ltd.

78. Hong Kong Gree Electric Appliances Sales Limited

79. Hong Kong Modern Non-Ferrous Metal

80. Honsense Development Company

81. Hui Mei Gao Aluminum Foshan Co., Ltd.

82. Huixin Aluminum

83. IDEX Dinglee Technology (Tianjin) Co., Ltd.

84. IDEX Technology Suzhou Co., Ltd.

85. IDEX Health

86. Innovative Aluminium (Hong Kong) Limited

87. iSource Asia

88. Jackson Travel Products Co., Ltd.

89. Jangho Curtain Wall Hong Kong Ltd.

90. Jiangmen Jianghai District Foreign Economic Enterprise Corp. Ltd.

91. Jiangmen Jianghai Foreign Ent. Gen.

92. Jiangmen Qunxing Hardware Diecasting Co., Ltd.

93. Jiangsu Changfa Refrigeration Co., Ltd.

94. Jiangyin Suncitygaylin

95. Jiangyin Trust International Inc.

96. Jiangyin Xinhong Doors and Windows Co., Ltd.

97. Jiaxing Jackson Travel Products Co., Ltd.

98. Jiaxing Taixin Metal Products Co., Ltd.

99. Jiuyan Co., Ltd.

100. JMA (HK) Company Limited

101. Johnson Precision Engineering (Suzhou) Co., Ltd.

102. Justhere Co., Ltd.

103. Kam Kiu Aluminium Products Sdn. Bhd.

104. Kanal Precision Aluminum Product Co., Ltd

105. Karlton Aluminum Company Ltd.

106. Kong Ah International Company Limited

107. Kromet International

108. Kromet International, Inc.

109. Kromet Intl Inc

110. Kunshan Giant Light Metal Technology Co., Ltd.

111. Longkou Donghai Trade Co., Ltd.

112. Metaltek Group Co., Ltd.

113. Metaltek Metal Industry Co., Ltd.

114. Midea Air Conditioning Equipment Co., Ltd.

115. Miland Luck Limited

116. Nanhai Textiles Import & Export Co., Ltd.

117. New Asia Aluminum & Stainless Steel Product Co., Ltd.

118. New Zhongya Aluminum Factory

119. Nidec Sankyo (Zhejang) Corporation

120. Nidec Sankyo Zhejiang Corporation

121. Nidec Sankyo Singapore Pte. Ltd.

122. Ningbo Coaster International Co., Ltd.

123. Ningbo Hi Tech Reliable Manufacturing Company

124. Ningbo Innopower Tengda Machinery

125. Ningbo Ivy Daily Commodity Co., Ltd.

126. Ningbo Yili Import and Export Co., Ltd.

127. North China Aluminum Co., Ltd.

128. North Fenghua Aluminum Ltd.

129. Northern States Metals

130. PanAsia Aluminium (China) Limited

131. Pengcheng Aluminum Enterprise Inc.

132. Permasteelisa Hong Kong Limited

133. Permasteelisa South China Factory

134. Pingguo Aluminum Company Limited

135. Pingguo Asia Aluminum Co., Ltd.

136. Popular Plastics Co., Ltd.

137. Precision Metal Works Limited

138. Press Metal International Ltd.

139. Samuel, Son & Co., Ltd.

140. Sanchuan Aluminum Co., Ltd.

141. Sanhua (Hangzhou) Micro Channel Heat Exchanger Co., Ltd

142. Shangdong Huasheng Pesticide Machinery Co.

143. Shangdong Nanshan Aluminum Co., Ltd.

144. Shanghai Automobile Air-Conditioner Accessories Co Ltd

145. Shanghai Automobile Air Conditioner Accessories Ltd.

146. Shanghai Canghai Aluminum Tube Packaging Co., Ltd

147. Shanghai Dongsheng Metal

148. Shanghai Shen Hang Imp & Exp Co., Ltd.

149. Shanghai Tongtai Precise Aluminum Alloy Manufacturing Co., Ltd.

150. Shenzhen Hudson Technology Development Co.

151. Shenzhen Jiuyuan Co., Ltd.

152. Sihui Shi Guo Yao Aluminum Co., Ltd.

153. Skyline Exhibit Systems (Shanghai) Co., Ltd.

154. Southwest Aluminum (Group) Co., Ltd.

155. Suzhou JRP Import & Export Co., Ltd.

156. Suzhou New Hongji Precision Part Co.

157. Tai-Ao Aluminium (Taishan) Co., Ltd.

158. Taishan City Kam Kiu Aluminium Extrusion Co., Ltd.

159. Taizhou Lifeng Manufacturing Co., Ltd.

160. Taizhou Lifeng Manufacturing Corporation, Ltd.

161. Taizhou United Imp. & Exp. Co., Ltd.

162. tenKsolar (Shanghai) Co., Ltd.

163. Tianjin Ganglv Nonferrous Metal Materials Co., Ltd.

164. Tianjin Jinmao Import & Export Corp., Ltd.

165. Tianjin Ruixin Electric Heat Transmission Technology, Ltd.

166. Tianjin Xiandai Plastic & Aluminum Products Co., Ltd.

167. Tiazhou Lifeng Manufacturing Corporation

168. Top-Wok Metal Co., Ltd.

169. Traffic Brick Network, LLC

170. Union Aluminum (SIP) Co.

171. Union Industry (Asia) Co., Ltd.

172. Wenzhou Shengbo Decoration & Hardware

173. Whirlpool (Guangdong)

174. WTI Building Products, Ltd.

175. Xin Wei Aluminum Co.

176. Xinya Aluminum & Stainless Steel Product Co., Ltd.

177. Yuyao Fanshun Import & Export Co., Ltd.

178. Yuyao Haoshen Import & Export

179. Zahoqing China Square Industry Limited

180. Zhaoqing Asia Aluminum Factory Company Ltd.

181. Zhaoqing China Square Industrial Ltd.

182. Zhaoqing China Square Industry Limited

183. Zhaoqing New Zhongya Aluminum Co., Ltd.

184. Zhejiang Anji Xinxiang Aluminum Co., Ltd.

185. Zhejiang Yongkang Listar Aluminium Industry Co., Ltd.

186. Zhejiang Zhengte Group Co., Ltd.

187. Zhenjiang Xinlong Group Co., Ltd.

188. Zhongshan Daya Hardware Co., Ltd.

189. Zhongshan Gold Mountain Aluminum Factory Ltd.

190. Zhongya Shaped Aluminium (HK) Holding Limited

191. Zhuhai Runxingtai Electrical Equipment Co., Ltd.

[FR Doc. 2018-02521 Filed 2-7-18; 8:45 am]

BILLING CODE 3510-DS-P